ENVIRONMENTAL PROTECTION AGENCY

[FRL-9099-6]

Proposed Cercla Administrative Cost Recovery Settlement; David Benvenuti and Howe Cleaners, Howe Cleaners Site, Barre, VT

AGENCY: Environmental Protection Agency.

ACTION: Notice of proposed settlement; request for public comment.

SUMMARY: In accordance with Section 122(i) of the Comprehensive Environmental Response Compensation, and Liability Act, as amended (“CERCLA”), 42 U.S.C. 9622(i), notice is hereby given of a proposed administrative settlement for recovery of past costs concerning the Howe Cleaners Superfund Site in Barre, Vermont with the following settling parties: David Benvenuti and Howe Cleaners. The settlement requires the settling parties to pay $320,000 to the Hazardous Substance Superfund. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at 5 Post Office Square, Suite 100, Boston, MA 02109-3912.

DATES: Comments must be submitted by February 3, 2010.

ADDRESSES: Comments should be addressed to Peter DeCambre, Senior Enforcement Counsel, U.S. Environmental Protection Agency, Region I, 5 Post Office Square, Suite 100 (OES04-1), Boston, Massachusetts 02109-3912 (Telephone No. 617-918-1890) and should refer to: In re: Howe Cleaners Superfund Site, U.S. EPA Docket No. 01-2009-0045.

FOR FURTHER INFORMATION CONTACT: A copy of the proposed settlement may be obtained from Peter DeCambre, Senior Enforcement Counsel, U.S. Environmental Protection Agency, Region I, 5 Post Office Square, Suite 100, (OES04-1), Boston, Massachusetts 02109-3912 (Telephone No. 617-918-1890; E-mail decambre.peter@epa.gov).

Dated: December 22, 2009.
James T. Owens III,
Director, Office of Site Remediation and Restoration.

[FR Doc. E9-31176 Filed 12-31-09; 8:45 am]

BILLING CODE 6560-50-P